DEPARTMENT OF DEFENSE

Department of the Army

Army Science Board; Notice of Open Meeting

In accordance with Section 19(a)(2) of the Federal Advisory Committee Act (P.L. 92-463), announcement is made of the following Committee Meeting:

Name of Committee: Army Science Board (ASB).

Date(s) of Meeting: 28-31 October 2002.

Time(s) of Meeting: 0900-1700, 28 October 2002, 0900-1200, 31 October 2002.

Place: Carlisle Barracks, Pennsylvania.

1. The Army Science Board is holding a General Membership Meeting on 28-31 October 2002. The meeting will be held at the U.S. Army War College, Carlisle Barracks, Pennsylvania. The meeting will begin at 0900hrs on the 28th and will end at approximately 1200hrs on the 31st, For further information, please contact Major Robert Grier—703-604-7478 or email: robert.grier@saalt.army.mil.

Wayne Joyner,
Executive Assistant, Army Science Board.

[FR Doc. 02-26911 Filed 10-22-02; 8:45 am]

BILLING CODE 3710-08-M